DEPARTMENT OF COMMERCE

National Oceanic and Atmospheric Administration

50 CFR Part 635

[Docket No. 080728943-9716-02]

RIN 0648-AX12

Atlantic Highly Migratory Species; 2009 Atlantic Bluefin Tuna Quota Specifications and Effort Controls; Correction

AGENCY: National Marine Fisheries Service (NMFS), National Oceanic and Atmospheric Administration (NOAA), Commerce.

ACTION: Final rule; correction.

SUMMARY: NMFS published a final rule in the Federal Register on June 1, 2009, concerning the final 2009 fishing year specifications for the Atlantic bluefin tuna (BFT) fishery, including quotas for each of the established domestic fishing categories and effort controls for the General category and Angling category. While the effective dates in the DATES section were correct, the rule contained a typo with regard to effective dates of the BFT daily retention limits in the SUPPLEMENTARY INFORMATION section. This document corrects that typo.

DATES: This correction is effective on June 1, 2009.

FOR FURTHER INFORMATION CONTACT: Sarah McLaughlin, 978-281-9260.

SUPPLEMENTARY INFORMATION:

Correction

In rule FR Doc. E9-12654 that published in the Federal Register on June 1, 2009 (74 FR 26112) make the following correction. On page 26112, in the first column, revise SUPPLEMENTARY INFORMATION sections IV and V to read as follows:

IV. General Category Effort Controls

Because of the large quota available for the General category, NMFS increases the daily retention limit of BFT for the June-August subperiod from the default one-fish retention limit to a three-fish limit. Therefore, persons aboard vessels permitted in the General category may retain three large medium or giant BFT (measuring 73 inches or greater) per vessel per day/trip from June 1, 2009 through August 31, 2009. The BFT retention limit may be adjusted via inseason action, if warranted, under § 635.23(a)(4).

V. Angling Category Effort Controls

This final rule establishes an Angling category retention limit of one school BFT (27 inches to less than 47 inches), and one large school/small medium BFT (47 inches to less than 73 inches) per vessel per day/trip. This retention limit is effective for persons aboard vessels permitted in the Angling category from June 1, 2009 through December 31, 2009. This retention limit may be adjusted via inseason action, if warranted, under § 635.23(b)(3).

Dated: June 11, 2009.
Kristen C. Koch,
Acting Director, Office of Sustainable Fisheries, National Marine Fisheries Service.

[FR Doc. E9-14265 Filed 6-16-09; 8:45 am]

BILLING CODE 3510-22-S